DEPARTMENT OF ENERGY

Federal Energy Regulatory Commission

Combined Notice of Filings

Take notice that the Commission has received the following Natural Gas Pipeline Rate and Refund Report filings:

Filings Instituting Proceedings

Docket Numbers: PR22-58-000.

Applicants: Columbia Gas of Ohio, Inc.

Description: § 284.123 Rate Filing: COH SOC Rates effective July 29 2022 to be effective 7/29/2022.

Filed Date: 8/25/22.

Accession Number: 20220825-5013.

Comments/Protest Due: 5 p.m. ET 9/15/22.

Docket Numbers: RP22-1143-000.

Applicants: El Paso Natural Gas Company, L.L.C.

Description: § 4(d) Rate Filing: Negotiated Rate Agreement Update (APS Sept 2022) to be effective 9/1/2022.

Filed Date: 8/24/22.

Accession Number: 20220824-5056.

Comment Date: 5 p.m. ET 9/6/22.

Docket Numbers: RP22-1144-000.

Applicants: Texas Eastern Transmission, LP.

Description: Compliance filing: TETLP August 2022 Penalty Disbursement Report to be effective N/A.

Filed Date: 8/24/22.

Accession Number: 20220824-5099.

Comment Date: 5 p.m. ET 9/6/22.

Docket Numbers: RP22-1145-000.

Applicants: Saltville Gas Storage Company L.L.C.

Description: § 4(d) Rate Filing: August 2022 Negotiated Rate Clean-up Filing to be effective 9/25/2022.

Filed Date: 8/25/22.

Accession Number: 20220825-5002.

Comment Date: 5 p.m. ET 9/6/22.

Docket Numbers: RP22-1146-000.

Applicants: Elba Express Company, L.L.C.

Description: § 4(d) Rate Filing: Prepayment to be effective 9/26/2022.

Filed Date: 8/25/22.

Accession Number: 20220825-5019.

Comment Date: 5 p.m. ET 9/6/22.

Docket Numbers: RP22-1147-000.

Applicants: Transcontinental Gas Pipe Line Company, LLC.

Description: § 4(d) Rate Filing: 2022 ACA Tracker Filing—GSS, LSS, SS-2, S-2 to be effective 10/1/2022.

Filed Date: 8/25/22.

Accession Number: 20220825-5055.

Comment Date: 5 p.m. ET 9/6/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2022.
Debbie-Anne A. Reese,
Deputy Secretary.

[FR Doc. 2022-18791 Filed 8-30-22; 8:45 am]

BILLING CODE 6717-01-P